DEPARTMENT OF VETERANS AFFAIRS

National Research Advisory Council, Notice of Meeting

The Department of Veterans Affairs (VA) gives notice under Public Law 92-463 (Federal Advisory Committee Act) that the National Research Advisory Council will hold a meeting on Wednesday, June 13, 2012, in Conference Room 23 at 131 M Street NE., Washington, DC. The meeting will convene at 9 a.m. and end at 3:30 p.m. The meeting is open to the public.

The purpose of the Council is to provide external advice and review for VA's research mission. The agenda will include a review of the VA research portfolio and a summary of current budget allocations. The Council will also provide feedback on the direction/focus of VA's research initiatives.

No time will be allocated at this meeting for receiving oral presentations from the public. Interested members of the public may submit written statements for the Council's review to Margaret Hannon, Designated Federal Officer, Office of Research and Development (10P9), Department of Veterans Affairs, 810 Vermont Avenue NW., Washington, DC, 20420, or by email at Margaret.Hannon@va.gov. Any member of the public wishing to attend the meeting or wishing further information should contact Ms. Hannon at (202) 443-5614.

By Direction of the Secretary.
Dated: May 23, 2012.
Vivian Drake,
Committee Management Officer.

[FR Doc. 2012-12995 Filed 5-29-12; 8:45 am]

BILLING CODE 8320-01-P